DEPARTMENT OF ENERGY

Federal Energy Regulatory Commission

Notice of Staff Attendance at the Southwest Power Pool Regional State Committee Meeting

The Federal Energy Regulatory Commission hereby gives notice that members of its staff may attend the meeting of the Southwest Power Pool, Inc. Regional State Committee as noted below. Their attendance is part of the Commission's ongoing outreach efforts.

The meeting will be held on July 18, 2016 from 10:00 a.m. to 4:00 p.m. Central Time. The location of the meeting is at the Westin DFW Hotel, 4545 West John Carpenter Freeway, Irving, TX 75063. The hotel phone number is (972) 929-4500.

The discussions may address matters at issue in the following proceedings:

Docket No. ER11-1844, Midcontinent Independent System Operator, Inc.

Docket No. EL12-60, Southwest Power Pool, Inc., et al.

Docket No. ER12-959, Southwest Power Pool, Inc.

Docket No. ER12-1179, Southwest Power Pool, Inc.

Docket No. ER12-1586, Southwest Power Pool, Inc.

Docket No. EL15-66, Southern Company Services, et al. v. Midcontinent Independent System Operator, Inc.

Docket No. EL15-77, Morgan Stanley Capital Group Inc. v. Midcontinent Independent System Operator, Inc.

Docket No. ER14-1183, Southwestern Electric Power Company

Docket No. ER14-2445, Midcontinent Independent System Operator, Inc.

Docket No. ER14-2850, Southwest Power Pool, Inc.

Docket No. ER15-1499, Southwest Power Pool, Inc.

Docket No. ER15-1775, Southwest Power Pool, Inc.

Docket No. ER15-1777, Southwest Power Pool, Inc.

Docket No. ER15-1943, Southwest Power Pool, Inc.

Docket No. ER15-1976, Southwest Power Pool, Inc.

Docket No. ER15-2028, Southwest Power Pool, Inc.

Docket No. ER15-2069, Northwestern Corporation

Docket No. ER15-2115, Southwest Power Pool, Inc.

Docket No. ER15-2265, Southwest Power Pool, Inc.

Docket No. ER15-2324, Southwest Power Pool, Inc.

Docket No. ER15-2347, Southwest Power Pool, Inc.

Docket No. ER15-2351, Southwest Power Pool, Inc.

Docket No. ER15-2356, Southwest Power Pool, Inc.

Docket No. EC16-53, South Central MCN, LLC

Docket No. EL16-20, Grid Assurance LLC

Docket No. EL16-70, Cottonwood Wind Project, LLC v. Nebraska Public Power District

Docket No. ER16-13, Southwest Power Pool, Inc.

Docket No. ER16-204, Southwest Power Pool, Inc.

Docket No. ER16-209, Southwest Power Pool, Inc.

Docket No. ER16-228, Southwest Power Pool, Inc.

Docket No. ER16-791, Southwest Power Pool, Inc.

Docket No. ER16-829, Southwest Power Pool, Inc.

Docket No. ER16-846, Southwest Power Pool, Inc.

Docket No. ER16-862, Southwest Power Pool, Inc.

Docket No. ER16-863, Southwest Power Pool, Inc.

Docket No. ER16-932, Southwest Power Pool, Inc.

Docket No. ER16-1086, Southwest Power Pool, Inc.

Docket No. ER16-1211, Midcontinent Independent System Operator, Inc.

Docket No. ER16-1286, Southwest Power Pool, Inc.

Docket No. ER16-1305, Southwest Power Pool, Inc.

Docket No. ER16-1351, Westar Energy, Inc.

Docket No. ER16-1355, Westar Energy, Inc.

Docket No. ER16-1314, Southwest Power Pool, Inc.

Docket No. ER16-1341, Southwest Power Pool, Inc.

Docket No. ER16-1544, Southwest Power Pool, Inc.

Docket No. ER16-1546, Southwest Power Pool, Inc.

Docket No. ER16-1605, Southwestern Electric Power Company

Docket No. ER16-1618, Southwest Power Pool, Inc.

Docket No. ER16-1676, Southwest Power Pool, Inc.

Docket No. ER16-1709, Southwest Power Pool, Inc.

Docket No. ER16-1710, Southwest Power Pool, Inc.

Docket No. ER16-1711, Southwest Power Pool, Inc.

Docket No. ER16-1712, Southwest Power Pool, Inc.

Docket No. ER16-1713, Southwest Power Pool, Inc.

Docket No. ER16-1715, Southwest Power Pool, Inc.

Docket No. ER16-1772, Public Service Company of Colorado

Docket No. ER16-1774, Southwest Power Pool, Inc.

Docket No. ER16-1797, Midcontinent Independent System Operator, Inc.

Docket No. ER16-1799, Southwest Power Pool, Inc.

Docket No. ER16-1812, Southwestern Electric Power Company

Docket No. ER16-1814, Southwest Power Pool, Inc.

Docket No. ER16-1826, Southwest Power Pool, Inc.

Docket No. ER16-1905, Southwest Power Pool, Inc.

Docket No. ER16-1912, Southwest Power Pool, Inc.

Docket No. ER16-1945, Southwest Power Pool, Inc.

Docket No. ER16-1951, Southwest Power Pool, Inc.

Docket No. ER16-1959, Southwest Power Pool, Inc.

Docket No. ER16-1989, Southwest Power Pool, Inc.

These meetings are open to the public.

For more information, contact Patrick Clarey, Office of Energy Market Regulation, Federal Energy Regulatory Commission at (317) 249-5937 or patrick.clarey@ferc.gov.

Dated: July 5, 2016.
Kimberly D. Bose,
Secretary.

[FR Doc. 2016-16395 Filed 7-11-16; 8:45 am]

BILLING CODE 6717-01-P